DEPARTMENT OF ENERGY

Federal Energy Regulatory Commission

[Docket Nos. QF81-21-004 and EL01-121-000]

Wheelabrator Lassen Inc.; Notice of Petition for Temporary Waiver of Qualifying Cogeneration Facility Operating and Efficiency Standards

October 3, 2001.

Take notice that on September 26, 2001, Wheelabrator Lassen Inc. (Applicant) filed a petition with the Federal Energy Regulatory Commission (Commission) for a temporary waiver of the operating and efficiency standards for cogeneration facilities for calendar year 2002 for its facility in Shasta County, California, pursuant to section 292.205(c) of the Commission's regulations.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before October 26, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25366 Filed 10-9-01; 8:45 am]

BILLING CODE 6717-01-P